DEPARTMENT OF ENERGY

Federal Energy Regulatory Commission

[Middle Chattahoochee Project No. 2177-053 Georgia/Alabama]

Georgia Power Company; Notice of Availability of Environmental Assessment

April 22, 2004.

In accordance with the National Environmental Policy Act of 1969 and the Federal Energy Regulatory Commission's (Commission) regulations, 18 CFR part 380 (Order No. 486, 52 FR 47897), the Office of Energy Projects (staff) has reviewed the application for a new major license for the Middle Chattahoochee Project, located on the Chattahoochee River in Harris and Muscogee Counties, Georgia, and Lee and Russell Counties, Alabama, and prepared an Environmental Assessment (EA) for the project. The project does not affect Federal lands.

In this EA, the staff analyzes the potential environmental effects of the existing project and concludes that licensing the project, with staff's recommended measures, would not constitute a major federal action significantly affecting the quality of the human environment.

A copy of the EA and application is available for review at the Commission in the Public Reference Room, or may be viewed on the Commission's Web site at http://www.ferc.gov using the “e-Library” link. Enter the docket number excluding the last three digits in the docket number field to access the document. For assistance, contact FERC Online Support at FERCOnlineSupport@ferc.gov or toll-free at 866-208-3676, or for TTY, (202) 502-8659. Register online at http://www.ferc.gov/esubscribenow.htm to be notified via e-mail of new filings and issuances related to this or other pending projects. For assistance, contact FERC Online Support.

Any comments should be filed within 30 days from the date of this notice and should be addressed to Magalie R. Salas, Secretary, Federal Energy Regulatory Commission, 888 First Street, NE., Washington, DC 20426. Please affix “Middle Chattahoochee Project No. 21770-53” to all comments. For further information, please contact Ronald McKitrick by e-mail at ronald.mckitrick@ferc.gov or phone 770-452-3778.

The Commission strongly encourages electronic filings. Comments may be filed electronically via the Internet in lieu of paper. See 18 CFR 385.2001(a)(1)(iii) and the instructions on the Commission's Web site under the “e-Filing” link.

Magalie R. Salas,
Secretary.

[FR Doc. E4-951 Filed 4-27-04; 8:45 am]

BILLING CODE 6717-01-P